DEPARTMENT OF TRANSPORTATION

Federal Aviation Administration

Issuance of Final Report of the 2008 Amateur-Built Aircraft Aviation Rulemaking Committee.

AGENCY: Federal Aviation Administration, DOT.

SUMMARY: This notice announces the issuance of the final report of the 2008 Amateur-Built Aircraft Aviation Rulemaking Committee (2008 ARC). The report provides the 2008 ARC's recommendations regarding the disposition of (1) public comments received on the proposed changes to Order 8130.2F and AC 20-27G; (2) the definition of “fabrication” as it differs from “assembly” within the scope of Title 14, Code of Federal Regulations (14 CFR) part 21, Certification Procedures for Products and Parts, § 21.191(g), Operating amateur-built aircraft; and (3) a process to minimize the impact of the proposed policy on amateur-built kits evaluated by the FAA before February 15, 2008.

FOR FURTHER INFORMATION CONTACT: Frank P. Paskiewicz, Manager, Production and Airworthiness Division, Aircraft Certification Service, AIR-200, Federal Aviation Administration, 950 L'Enfant Plaza, SW., 5th Floor, Suite 500, Washington, DC 20024; telephone number: (202) 385-6346. A copy of the final report may be obtained by accessing the FAA's Web site at http://www.faa.gov/aircraft/gen_av/ultralights/amateur_built/media/ARC_FINAL_2008_report.pdf.

SUPPLEMENTARY INFORMATION:

Background

On February 14, 2008, the 2006 Amateur-Built Aircraft Aviation Rulemaking Committee (ARC) published its Final Report. This report found that FAA directives setting policy for amateur-built aircraft “do not adequately address the issue of commercial assistance,” determined that the “aircraft kit evaluation process is not standardized,” and cited the need for additional training for inspectors to “fully understand the FAA's expectations when determining an aircraft's eligibility for an amateur-built certificate.” Based on the ARC's report, the FAA published a notice in the Federal Register on February 15, 2008,¹ temporarily suspending amateur-built aircraft kit evaluations. The FAA decided that its directives governing the amateur-built aircraft sector required review and revision.

¹ Notice of Temporary Suspension of Amateur-Built Aircraft Kit Evaluations Previously Conducted by the Federal Aviation Administration, Aircraft Certification Service (73 FR 8926, February 15, 2008).

Subsequently, the FAA published a notice in the Federal Register on July 15, 2008, announcing proposed changes to, and seeking public comments on (1) FAA Order 8130.2F, Airworthiness Certification of Aircraft and Related Products, Chapter 4, Special Airworthiness Certification, Section 9, Experimental Amateur-Built Airworthiness Certifications; and (2) AC 20-27G, Certification and Operation of Amateur-Built Aircraft.² The original comment period opened on July 15, 2008, and closed on August 15, 2008.

² Notification of Policy Revisions, and Requests for Comments on the Percentage of Fabrication and Assembly that Must Be Completed by an Amateur Builder to Obtain an Experimental Airworthiness Certificate for an Amateur-Built Aircraft (73 FR 40652, July 15, 2008).

Upon request, the FAA extended the comment period to September 30, 2008,³ and then reopened the comment period from October 31, 2008, through December 15, 2008.⁴

³ See Notification of Policy Revisions, and Requests for Comments on the Percentage of Fabrication and Assembly That Must Be Completed by an Amateur Builder to Obtain an Experimental Airworthiness Certificate for an Amateur-Built Aircraft; Extension of Comment Period (73 FR 43278, July 24, 2008).

⁴ The FAA reopened the comment period because the proposed Order 8130.2F and AC 20-27G had been inadvertently removed from the FAA Web site during the comment period. (See 73 FR 65007, October 31, 2008.)

On November 4, 2008, the Amateur-Built ARC was rechartered with Order 1110.143A, Amateur-Built Aircraft Aviation Rulemaking Committee to advise the FAA on issues concerning disposition of the public comments, the enhanced definition of the term “fabrication” and grandfathering of FAA-listed amateur-built aircraft kits.

The 2008 ARC met in Washington, DC on January 27 through 29, 2009, to consider the items listed above; the ARC also—

• Reevaluated the 20/20/11 requirement; ⁵

⁵ 20/20/11 was an FAA proposal requiring an amateur builder to fabricate a minimum 20 percent of an aircraft and assemble a minimum of 20 percent of the aircraft.

• Evaluated an updated FAA Form 8000-38, Fabrication/Assembly Operation Checklist;

• Discussed the creation of a National Kit Evaluation Team, consisting of FAA Aviation Safety Inspectors, to establish a standardized aircraft kit evaluation process; and

• Discussed the conversion of type-certificated aircraft into amateur-built aircraft.

The FAA will take the 2008 ARC's recommendations into consideration in the formulation of the final revisions to FAA Order 8130.2F, and AC 20-27G.

Dated: September 11, 2009.
Frank P. Paskiewicz,
Manager, Production and Airworthiness Division.

[FR Doc. E9-22339 Filed 9-15-09; 8:45 am]

BILLING CODE 4910-13-P